ENVIRONMENTAL PROTECTION AGENCY

40 CFR Part 70

[Regional Docket Nos. V-2010-1, FRL-9498-6]

Clean Air Act Operating Permit Program; Petition for Objection to State Operating Permit for Carmeuse Stone and Lime

AGENCY: Environmental Protection Agency (EPA).

ACTION: Denial of petition.

SUMMARY: This document announces that the EPA Administrator has denied a petition from the Sierra Club asking EPA to object to a Title V operating permit for Carmeuse Stone and Lime (Carmeuse) issued by the Wisconsin Department of Natural Resources (WDNR).

Sections 307(b) and 505(b)(2) of the Act provide that a petitioner may ask for judicial review of those portions of the petition which EPA denies in the United States Court of Appeals for the appropriate circuit. Any petition for review shall be filed within 60 days from the date this notice appears in the Federal Register, pursuant to section 307 of the Act.

ADDRESSES: You may review copies of the final Order, the petition, and other supporting information at the EPA Region 5 Office, 77 West Jackson Boulevard, Chicago, Illinois 60604. If you wish to examine these documents, you should make an appointment at least 24 hours before visiting day. Additionally, the final Order for the Carmeuse petition is available electronically at: http://www.epa.gov/region7/air/title5/petitiondb/petitiondb.htm.

FOR FURTHER INFORMATION CONTACT: Genevieve Damico, Chief, Air Permits Section, Air Programs Branch, Air and Radiation Division, EPA, Region 5, 77 West Jackson Boulevard, Chicago, Illinois 60604, telephone (312) 353-4761.

SUPPLEMENTARY INFORMATION: The Act affords EPA a 45-day period to review, and object, as appropriate, to Title V operating permits proposed by state permitting authorities. Section 505(b)(2) of the Act authorizes any person to petition the EPA Administrator within 60 days after the expiration of the EPA review period to object to a Title V operating permit if EPA has not done so. A petition must be based only on objections to the permit that were raised with reasonable specificity during the public comment period provided by the state, unless the petitioner demonstrates that it was impracticable to raise issues during the comment period, or the grounds for the issues arose after this period.

On December 15, 2009, EPA received a petition from the Sierra Club requesting that EPA object to the Title V operating permit for Carmeuse. The Petitioner alleged that the permit is not in compliance with the requirements of the Act. Specifically, the Petitioner alleged that: (1) A Prevention of Significant Deterioration permit issued by EPA in 1979 did not allow Carmeuse to burn petroleum coke as a fuel and the permit never was modified to allow for it; (2) WDNR was not authorized to revise EPA's 1979 permit; and (3) a construction permit issued by WDNR in 1995 was flawed because WDNR did not use the correct permit process, and did not do the netting analysis or the modeling and increment analyses correctly.

On November 4, 2011, the Administrator issued an Order denying the Sierra Club's petition. The Order explains the reasons behind EPA's conclusion.

Dated: November 16, 2011.
Susan Hedman,
Regional Administrator, Region 5.

[FR Doc. 2011-30843 Filed 11-30-11; 8:45 am]

BILLING CODE 6560-50-P